DEPARTMENT OF COMMERCE

National Oceanic and Atmospheric Administration

[I.D. 121800C]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on January 15-19, 2001.

ADDRESSES: These meetings will be held at the San Luis Hotel, 5222 Seawall Boulevard, Galveston, Texas; telephone: 409-744-1500.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Monday, January 15, 2001

9 a.m. - 10:30 a.m.—Convene the Artificial Reef Committee to hear a review of the National Artificial Reef Plan.

10:30 a.m. - 12 noon—Convene the Habitat Protection Committee to discuss habitat protection issues related to Brownsville Weir and Reservoir project and Gulf Intercoastal Waterway (near Freeport).

1 p.m. - 5:30 p.m.—Convene the Reef Fish Management Committee to develop its recommendations to the Council on total allowable catch (TAC) for the reef fish stocks and to review an options paper for grouper management.

Tuesday, January 16, 2001

8 a.m. - 9:30 a.m.—Continue the Reef Fish Management Committee, if necessary.

9:30 a.m. - 12:30 p.m.—Convene the Shrimp Management Committee to develop recommendations to the Council for the extent of the Texas Shrimp Closure for 2001 and the provisions of Amendment 11 which has alternatives for vessel permits and permitting of vessel operators.

1:30 p.m. - 4 p.m.—Convene the Mackerel Management Committee to hear a stock assessment report on wahoo and to develop recommendations to the Council on the provisions of the Dolphin/Wahoo Fishery Management Plan (FMP).

4 p.m. - 5:30 p.m.—Convene the Law Enforcement Committee to review a Strategic Law Enforcement Plan for the Gulf.

Wednesday, January 17, 2001

8:30 a.m.—Convene Council.

8:45 a.m. - 12 noon--Receive public testimony on the Texas Shrimp Closure for 2001, a proposed Dolphin/Wahoo FMP, a proposed amendment to the Shrimp FMP, and proposed regulatory actions on setting TAC and restrictive management measures for greater amberjack and red grouper. The Council will also consider adopting a 5-year restoration scenario for rebuilding of the overfished red snapper stock. The TAC and management measures would remain constant over this 5-year period and then be adjusted based on new stock assessment information in 2005. Note: Persons who will testify must turn in a registration card before the start of the testimony period on Wednesday.

1:30 p.m. - 5 p.m.—Continue public testimony if needed.

5 p.m. - 5:30 p.m.—Discuss adoption of a possible Council logo.

11:30 a.m. - 12 noon—Receive a report of the Artificial Reef Committee.

Thursday, January 18, 2001

8:30 a.m. - 11:30 a.m.—Receive a report of the Reef Fish Management Committee.

11:30 a.m. - 12 noon—Receive a report of the Artificial Reef Committee.

1:30 p.m. - 3:30 p.m.—Receive a report of the Shrimp Management Committees.

3:30 p.m. - 5:30 p.m.—Receive a report of the Mackerel Management Committee Report.

Friday, January 19, 2001

8:30 a.m. - 9 a.m.—Receive a report of the Habitat Protection Committee.

9 a.m. - 10 a.m.—Receive a report of the Law Enforcement Committee Report.

10 a.m. - 10:15 a.m.—Receive the South Atlantic Fishery Management Council Liaison report.

10:15 a.m. - 10:30 a.m.—Receive enforcement reports.

10:30 a.m. - 10:45 a.m.—Receive the NMFS Regional Administrator’s Report.

10:45 a.m. - 11 a.m.—Receive Director’s Reports.

11 a.m.—Other Business

Although non-emergency issues not contained in this agenda may come before this Council for discussion, in accordance with the Magnuson-Stevens Fishery Conservation and Management Act, those issues may not be the subject of formal Council action during this meeting. Action will be restricted to those issues specifically listed in this notice and any issues arising after publication of this notice that require emergency action under section 305(c) of the Magnuson-Stevens Fishery Conservation and Management Act, provided the public has been notified of the Council’s intent to take final action to address the emergency. A copy of the Committee schedule and agenda can be obtained by calling (813) 228-2815.

Special Accommodations

These meetings are physically accessible to people with disabilities. Requests for sign language interpretation or other auxiliary aids should be directed to Anne Alford at the Council (see ADDRESSES) by January 8, 2001.

Dated: December 18, 2000.
Richard W. Surdi,
Acting Director, Office of Sustainable Fisheries, National Marine Fisheries Service.

[FR Doc. 00-32726 Filed 12-21-00; 8:45 am]

BILLING CODE: 3510-22-S